SOCIAL SECURITY ADMINISTRATION

Agency Information Collection Activities; Proposed Request and Comment Request

The Social Security Administration (SSA) publishes a list of information collection packages requiring clearance by the Office of Management and Budget (OMB) in compliance with Public Law 104-13, the Paperwork Reduction Act of 1995, effective October 1, 1995. This notice includes revisions to OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

I. The information collection below is pending at SSA. SSA will submit it to OMB within 60 days from the date of this notice. To be sure we consider your comments, we must receive them no later than August 29, 2011. Individuals can obtain copies of the collection instrument by calling the SSA Reports Clearance Officer at 410-965-8783 or by writing to the above e-mail address.

Medical Permit Parking Application—41 CFR 101-20.104-2—0960-0624

SSA employees and contractors with a qualifying medical condition who park at SSA-owned and SSA-leased facilities may receive a medical parking permit. SSA uses three forms as part of this program: (1) SSA-3192, Physician's Report (the applicant's physician completes this to verify the medical condition); (2) SSA-3193, Application and Statement (the person seeking the permit completes this when first applying for the medical parking space); and (3) SSA-3194, Renewal Certification (medical parking permit holders complete this to verify their continued need for the permit). The respondents are SSA employees and contractors seeking medical parking permits and their physicians. Note: Because SSA employees are Federal workers exempt from the requirements of the Paperwork Reduction Act, the burden below is only for SSA contractors and physicians (of both SSA employees and contractors).

Type of Request: Revision to an OMB-approved information collection.

Form No. | Number of respondents | Frequency of response | Average burden per response (minutes) | Estimated annual burden (hours)
SSA-3192 | 75 | 1 | 90 | 113
SSA-3193 | 400 | 1 | 30 | 200
SSA-3194 | 500 | 1 | 5 | 42
Totals | 975 | — | — | 355

II. SSA submitted the information collections listed below to OMB for clearance. Your comments on the information collections would be most useful if OMB and SSA receive them within 30 days from the date of this publication. To be sure we consider your comments, we must receive them no later than August 1, 2011. You can obtain a copy of the OMB clearance packages by calling the SSA Reports Clearance Officer at 410-965-8783 or by writing to the above e-mail address.

1. Electronic Benefit Verification Information (BEVE)—20 CFR 401.40—0960-0595

The electronic proof of income (POI) verification Internet service, BEVE, provides Supplemental Security Income (SSI) recipients, Social Security beneficiaries, and Medicare beneficiaries the convenience of requesting a POI statement through the Internet. Beneficiaries and SSI recipients often require POI to obtain housing, food stamps, or other public services. After verifying the requester's identity, SSA uses the information from BEVE to provide the POI statement. SSA will enhance the current BEVE Internet application with the release of the new Internet Request a Benefit Verification Letter (iBEVE) application. The implementation of iBEVE is contingent upon our release of SSA's new Public Credentialing and Authentication Process and the MySocialSecurity.gov initiatives. We are revising the information collection to include the release of the iBEVE application. The respondents are Social Security beneficiaries, Medicare beneficiaries, and SSI recipients.

Type of Request: Revision of an OMB-approved information collection.

Internet application method | Number of respondents | Frequency of response | Average burden per response (minutes) | Total annual burden (hours)
BEVE | 870,958 | 1 | 5 | 72,580
iBEVE | 1,007,744 | 1 | 4 | 67,183
Totals | 1,878,702 | — | — | 139,763

2. Authorization to Obtain Earnings Data From the Social Security Administration—0960-0602

SSA collects information on Form SSA-581 to identify the earnings record, verify authorized access to the earnings record, and produce an itemized statement for release to the proper party. The respondents are various private or public organizations, or agencies needing detailed earnings information.

Type of Request: Revision of an OMB-approved information collection.

Number of Respondents: 32,000.

Frequency of Response: 1.

Average Burden per Response: 2 minutes.

Estimated Annual Burden: 1,067 hours.

3. Teacher Questionnaire and Request for Administrative Information—20 CFR 416.1103(f)—0960-0646

When determining the effects of a child's impairment(s), SSA obtains information about the child's functioning from teachers, parents, and others who observe the child on a daily basis. SSA obtains results of formal testing, teacher reports, therapy progress notes, individualized education programs, and other records of a child's educational aptitude and achievement using Forms SSA-5665 and SSA-5666. The respondents are parents, teachers, and other education personnel.

Type of Request: Revision of an OMB-approved information collection.

Form No. | Number of respondents | Frequency of response | Average burden per response (minutes) | Total annual burden (hours)
SSA-5665-BK (electronic) | 388,581 | 1 | 40 | 259,054
SSA-5665-BK (paper) | 11,419 | 1 | 40 | 7,613
SSA-5666 | 397,000 | 1 | 30 | 198,500
Totals | 797,000 |  |  | 465,167

Note: This is a correction notice. On April 6, 2011, at 76 FR 19175, SSA published a notice for this collection in which we inadvertently omitted the burden hours for both the electronic and paper version of Form SSA-5665-BK.

Faye Lipsky,
Reports Clearance Officer, Center for Reports Clearance, Social Security Administration.

[FR Doc. 2011-16421 Filed 6-29-11; 8:45 am]

BILLING CODE 4191-02-P